DEPARTMENT OF ENERGY

Notice of Reestablishment of the Electricity Advisory Board

Pursuant to section 14 (a)(2)(A) of the Federal Advisory Committee Act and in accordance with title 41 of the Code of Federal Regulations, section 102-3.65, and following consultation with the Committee Management Secretariat of the General Services Administration, notice is hereby given that the Electricity Advisory Board (the Board) has been reestablished for a two-year period, beginning in February 2004.

The Board will continue to provide balanced and authoritative advice to the Secretary of Energy on matters concerning electricity policy issues of concern to the Department; Department electricity programs and initiatives; current and future capacity of the electricity system (generation, transmission, and distribution), regionally and nationally; identification of issues related to capacity, production, delivery, reliability, and utility deregulation/restructuring and recommendations on policy and Department initiatives to deal with issues identified; coordination between the Department and state and regional officials and the private sector on matters affecting electricity supply and reliability; as well as coordination between Federal, State, and utility industry authorities in the event of supply disruption or other emergencies related to electricity generation and distribution.

The Board members are selected to assure well-balanced representation in areas relating to energy policy, renewable energy, environmental science, economics, business expertise and broad public policy interests. Membership of the Board will continue to be determined in accordance with the requirements of the Federal Advisory Committee Act (Pub. L. 92-463) and implementing regulations.

The renewal of the Board has been determined to be in the public interest, important and vital to the conduct of the Department's business. The Board will operate in accordance with the provisions of the Federal Advisory Committee Act (Pub. L. 92-463), the General Services Administration Final Rule on Federal Advisory Committee Management, and other directives and instructions issued in implementation of those acts.

FOR FURTHER INFORMATION CONTACT: Ms. Rachel M. Samuel, U.S. Department of Energy, ME-75, FORS, Washington, DC 20585, telephone: (202) 586-3279.

Issued in Washington, DC, on February 10, 2004.
James N. Solit,
Advisory Committee Management Officer.

[FR Doc. 04-3431 Filed 2-17-04; 8:45 am]

BILLING CODE 6450-01-P